DEPARTMENT OF ENERGY

Federal Energy Regulatory Commission

[Project No. 13836-000]

Medicine Bow Hydro, LLC; Notice of Preliminary Permit Application Accepted for Filing and Soliciting Comments, Motions To Intervene, and Competing Applications

September 21, 2010.

On August 30, 2010, Medicine Bow Hydro, LLC filed an application for a preliminary permit, pursuant to section 4(f) of the Federal Power Act (FPA), proposing to study the feasibility of the Medicine Bow Pumped Storage Project (Medicine Bow Project) to be located in Carbon County, Idaho. The sole purpose of a preliminary permit, if issued, is to grant the permit holder priority to file a license application during the permit term. A preliminary permit does not authorize the permit holder to perform any land-disturbing activities or otherwise enter upon lands or waters owned by others without the owners' express permission.

The proposed project will consist of the following: (1) A 9,200-foot-circumference, 60-foot-high earth or rockfilled embankment; creating an 88-acre upper reservoir with a storage capacity of 8,750-acre-foot at an elevation of 8,375 feet mean sea level (msl); (2) a 1,480-foot-long, 210-foot-high earth and rockfill or concrete-face rockfill dam; creating an 121-acre lower reservoir with a storage capacity of 8,900-acre-foot at an elevation of 7,325 feet msl; (3) a 19-foot-diameter, 600-foot-long concrete-lined low pressure tunnel; (4) a 19-foot-diameter, 5,060-foot-long high pressure concrete-lined tunnel; (5) a 280-foot-long, 70-foot-wide, 120-foot-high powerhouse containing one reversible 200-megawatt (MW) turbine/generator unit, and two 100-MW turbine/generator units, for a total installed capacity of 400 MW; (6) a 2,600-foot-long, 22.5-foot-diameter tailrace between the powerhouse and the lower reservoir; (7) an approximately 6.8-mile-long, 230-kilovolt transmission line connecting the powerhouse to the existing Miracle Mile-Cheyenne transmission line; and (8) appurtenant facilities. The estimated annual generation of the Medicine Bow Project would be 1,226,400 megawatt-hours.

Applicant Contact: Matthew Shapiro, Gridflex Energy, LLC, 1210 W. Franklin Street, Ste. 2, Boise, ID 83702; phone: (208) 246-9925.

FERC Contact: Jennifer Harper (202) 502-6136.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13836-000) in the docket number field to access the document. For assistance, contact FERC Online Support.

Kimberly D. Bose,
Secretary.

[FR Doc. 2010-24230 Filed 9-27-10; 8:45 am]

BILLING CODE 6717-01-P